DEPARTMENT OF AGRICULTURE

Rural Housing Service

Notice of Request for Extension of a Currently Approved Information Collection

AGENCY: Rural Housing Service, USDA.

ACTION: Proposed collection, comments requested.

SUMMARY: In accordance with the Paperwork Reduction Act of 1995, this notice announces the Rural Housing Service's (RHS) intention to request an extension for a currently approved information collection to measure Rural Development implementation of and compliance with the Equal Treatment Rule (7 CFR part 16) and Executive Order (EO) 13279 Equal Protection of the Laws for Faith-Based and Community Organizations.

DATES: Comments on this notice must be received by August 16, 2010 to be assured of consideration.

FOR FURTHER INFORMATION CONTACT: Rhonda Brown, Faith-Based and Neighborhood Partnerships Coordinator, Operations and Management, U.S. Department of Agriculture, Stop 0720, Room 4045, South Agriculture Building, 1400 Independence Avenue, SW., Washington, DC 20250-3250. Telephone (202) 692-029, e-mail: rhonda.brown@wdc.usda.gov.

SUPPLEMENTARY INFORMATION: Title: Rural Development-Voluntary Survey on the Equal Treatment Rule.

OMB Number: 0757-0192.

Expiration Date of Approval: October 31, 2010.

Type of Request: Intent to extend the clearance for collection of information under the Equal Treatment Rule (7 CFR part 16) and Executive Order (EO) 13279 Equal Protection of the Laws for Faith-Based and Community Organizations.

Abstract: The primary purpose of Faith-Based and Neighborhood Partnerships (formerly Faith-Based and Community Initiatives) is to improve non-profit participation, both faith-based and secular, through education and technical assistance. The primary objective of the Equal Treatment survey is results will enable Rural Development to measure the results and overall effectiveness of the FBNP outreach and implementation of and compliance with the Equal Treatment Rule and EO Orders 13279, 13199 Amended, and 13280.

Estimate of Burden: Public reporting burden for this collection of information is estimated to average 5 minutes per response.

Respondents: Program non-profit applicants.

Estimated Number of Respondents: 4000.

Estimated Number of Responses per Respondent: 1.

Estimated Number of Responses: 4000.

Estimated Total Annual Burden on Respondents: 320 hours.

Copies of this information collection can be obtained from Jeanne Jacobs, Regulations and Paperwork Management Branch, at (202) 692-0042.

Comments: Comments are invited on: (a) Whether the proposed collection of information is necessary for the proper performance of the functions of the agency, including whether the information will have practical utility; (b) the accuracy of agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Comments may be sent to Cheryl Thompson, Regulations and Paperwork Management Branch, U.S. Department of Agriculture, Rural Development, Stop 0742, 1400 Independence Ave., SW., Washington, DC 20250. All responses to this notice will be summarized and included in the request for OMB approval. All comments will also become a matter of public record.

Dated: June 7, 2010.
Tammye Trevino,
Administrator, Rural Housing Service.

[FR Doc. 2010-14490 Filed 6-15-10; 8:45 am]

BILLING CODE 3410-XY-P